COMMITTEE FOR THE IMPLEMENTATION OF TEXTILE AGREEMENTS

Suspension of Textile Visa Requirements for Ukraine

December 30, 2004.

AGENCY: Committee for the Implementation of Textile Agreements (CITA).

ACTION: Issuing a directive to the Commissioner, Bureau of Customs and Border Protection suspending all previous directives concerning visa requirements for Ukraine.

EFFECTIVE DATE: January 1, 2005.

FOR FURTHER INFORMATION CONTACT: Philip J. Martello, Director, Trade and Data Division, Office of Textiles and Apparel, U.S. Department of Commerce, (202) 482-3400.

SUPPLEMENTARY INFORMATION:

Authority: Executive Order 11651 of March 3, 1972, as amended; Section 204 of the Agricultural Act of 1956, as amended (7 U.S.C. 1854).

Due to the expiration on December 31, 2004 of the bilateral textile agreement with Ukraine, the United States is suspending visa requirements for textile products from Ukraine exported after that date.

Negotiations on extension of the bilateral agreement are ongoing with Ukraine. Visa requirements may be reinstated upon extension of the bilateral agreement.

In the letter below, CITA is directing the Bureau of Customs and Border Protection to temporarily suspend all textile visa requirements for goods exported from Ukraine on and after January 1, 2005.

D. Michael Hutchinson,
Acting Chairman, Committee for the Implementation of Textile Agreements.

Committee for the Implementation of Textile Agreements

December 30, 2004.

Commissioner,

Bureau of Customs and Border Protection, Washington, D.C. 20229.

Dear Commissioner: This directive suspends all previous directives issued to you by the Chairman, Committee for the Implementation of Textile Agreements concerning textile visa requirements for goods produced or manufactured in Ukraine, covering wool textile products subject to the quota limits under the United States - Ukraine bilateral textile agreement. Effective for such goods exported from Ukraine on and after January 1, 2005, you are directed not to require a textile visa for entry into the Customs territory of the United States.

The Committee for the Implementation of Textile Agreement has determined that this action falls within the foreign affairs exception to the rulemaking provisions of 5 U.S.C. 553(a)(1).

Sincerely,

D. Michael Hutchinson,

Acting Chairman, Committee for the Implementation of Textile Agreements.

[FR Doc. 05-197 Filed 1-4-05; 8:45 am]

BILLING CODE 3510-DS-S